DEPARTMENT OF COMMERCE

Patent and Trademark Office

Submission for OMB Review; Comment Request; Admission To Practice

The United States Patent and Trademark Office (USTPO) will submit to the Office of Management and Budget (OMB) for clearance the following proposal for collection of information under the provisions of the Paperwork Reduction Act (44 U.S.C. Chapter 35).

Agency: United States Patent and Trademark Office, Commerce.

Title: Admission to Practice.

OMB Control Number: 0651-0012.

Form Numbers:

• PTO-158

• PTO-158A

• PTO-158R

• PTO-158T

• PTO-107A

• PTO-107R

• PTO-107S

• PTO/275

• PTO-1209

Type of Request: Revision of a currently existing collection.

Number of Respondents: 19,864 responses per year.

Average Hours per Response: The USPTO estimates that it will take the public approximately 3 minutes (0.05 hours) to 7 hours to prepare the appropriate form or documents and submit to the USPTO, depending upon the instrument used.

Burden Hours: 21,187.83 hours annually.

Cost Burden: $1,473,587.72.

Needs and Uses: The information in this collection is used by the OED Director to determine whether the applicant for registration is of good moral character and repute; has the necessary legal, scientific, and technical qualifications; and is otherwise competent to advise and assist applicants in the presentation and prosecution of patent applications.

The information supplied by an applicant seeking to apply for the examination for registration and/or to request that they be included on the Register of Patent Attorneys and Agents is used by the USPTO to review applicants for the examination and to determine whether an applicant may be added to, or an existing practitioner may remain on, the Register of Patent Attorneys and Agents.

Affected Public: Businesses or other for-profits; not-for-profit institutions.

Frequency: On occasion.

Respondent's Obligation: Required to Obtain or Retain Benefits.

OMB Desk Officer: Nicholas A. Fraser, email: Nicholas_A._Fraser@omb.eop.gov.

Once submitted, the request will be publicly available in electronic format through reginfo.gov. Follow the instructions to view Department of Commerce collections currently under review by OMB.

Further information can be obtained by:

• Email: InformationCollection@uspto.gov. Include “0651-0012 copy request” in the subject line of the message.

• Mail: Marcie Lovett, Records and Information Governance Division Director, Office of the Chief Technology Officer, United States Patent and Trademark Office, P.O. Box 1450, Alexandria, VA 22313-1450.

Written comments and recommendations for the proposed information collection should be sent on or before January 25, 2018 to Nicholas A. Fraser, OMB Desk Officer, via email to Nicholas_A._Fraser@omb.eop.gov, or by fax to 202-395-5167, marked to the attention of Nicholas A. Fraser.

Marcie Lovett,
Records and Information Governance Division Director, OCTO, United States Patent and Trademark Office.

[FR Doc. 2017-27685 Filed 12-22-17; 8:45 am]

BILLING CODE 3510-16-P